DEPARTMENT OF DEFENSE

Office of the Secretary of Defense

[DoD-2007-OS-0098]

Privacy Act of 1974; Systems of Records

AGENCY: Defense Logistics Agency.

ACTION: Notice to add a system of records.

SUMMARY: The Defense Logistics Agency proposes to add a system of records notice to its inventory of record systems subject to the Privacy Act of 1974 (5 U.S.C. 552a), as amended.

DATES: This action will be effective without further notice on October 4, 2007 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on August 27, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 27, 2007.
L.M. Bynum,
Alternate OSD Federal Register Liaison Officer, Department of Defense.

S650.30

System name:

DRMS Surplus Sales Program Records.

System location:

For Local Sales, DAISY National Sales Program (DNSP), and the Bidder Master File (BMF): Defense Reutilization and Marketing Service, ATTN: Chief, Sales Office, DRMS-BBS, 74 Washington Avenue North, Battle Creek, MI 49037-3092.

For the Reutilization Modernization Program (RMP): RMP, DLIS-XP, ATTN: Program Manager, 74 Washington Avenue North, Battle Creek, MI 49037-3092.

Categories of individuals covered by the system:

Individuals, businesses, and organizations that have registered to participate in the DoD Surplus Sales Program.

Categories of records in the system:

Individual's name, business and home addresses and telephone numbers, bidder identification and registration number, bidder status code, Social Security Number (SSN) or Taxpayer ID number, amounts paid, owed or refunded, data on bad checks, bid bond data, and bank guarantee code.

Authority for maintenance of the system:

10 U.S.C. 133, Under Secretary of Defense for Acquisition and Technology; 40 U.S.C. 101 et seq., Federal Property and Administrative Services Act of 1949, as amended; 50 U.S.C. App. 2401 et seq., Export Control; 41 CFR Part 101-45; and E.O. 9397 (SSN).

Purpose(s):

Information is collected and maintained for the purpose of registering bidders for DRMS Surplus Sales; creating sales contracts; creating cash collection and refund vouchers; recording payments and property removal details; indebtedness; and other actions associated with the sales transaction.

Data may also be used by DoD law enforcement agencies responsible for auditing and investigating or enforcing criminal, civil, or administrative laws; the Defense Reutilization and Marketing Offices (DRMO) for the purpose of notifying bidders of upcoming surplus sales of potential interest to bidders; the Defense Finance and Accounting Service for the purpose of collecting and depositing payments owed to DRMS; and statistical data with all personal identifiers removed may be used by management for reporting or program management purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the General Services Administration for the purpose of adding and flagging bidder's records debarred from doing business with the Federal Government.

To the DRMS commercial sales venture partner(s) for the purpose of registering bidders for their surplus sales, creating sales contracts, creating cash collection and refund vouchers, recording payments and property removal details, indebtedness, and other actions associated with the sales transaction.

The DoD “Blanket Routine Uses” also apply to this system of records.

Disclosure to consumer reporting agencies:

Disclosures pursuant to 5 U.S.C. 552a(b)(12) may be made from this system to “consumer reporting agencies” as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (TIN) or Social Security Number (SSN), the amount, status, and history of the claim; and the agency or program under which the claim arose for the sole purpose of allowing the consumer reporting agency to prepare a commercial credit report.

Policies and practices for storing, retrieving, accessing, retaining, and disposing of records in the system:

Storage:

Paper records in file folders and electronic storage media.

Retrievability:

Individuals' name, business address, telephone number, Bidder Identification Number or any combination of the above.

Safeguards:

Access is limited to those DRMS and contractor personnel who use the records to perform official assigned duties. Technical controls are in place to restrict activity of users within the application; data owner verifies a need-to-know for each activity and assigns the candidate user to a group with authorization to perform specific actions.

Records are maintained in secure, limited access, or monitored work areas accessible only to authorized personnel. Central Processing Units are located in a physically controlled access area requiring either a badge or card swipe for entry. Workstations are controlled via Common Access Cards (CAC) with application specific generated forced password change protocols if the application itself is not CAC enabled. Passwords are tested for strength at the time of selection. Users are warned of the consequences of improperly accessing restricted databases and data misuse at each login, during staff meetings, and during separate Information Assurance and Privacy Act training. After hours, records are stored in locked file cabinets, locked rooms, or areas controlled by personnel screening. All file cabinets containing information subject to the Privacy Act of 1974 must have DLA Form 1461 affixed to the outside of the storage compartment. This form reads: The material/information contained herein falls within the purview of the Privacy Act of 1974 and will be safeguarded in accordance with the applicable systems of records notice and 32 CFR part 323.

Retention and disposal:

Records have the following disposition instructions: (a) Sales contracts under $25,000—retain for 3 years after final payment/closure; (b) Sales contracts for $25,000 or more—retain for 6 years after final payment/closure; (c) Hazardous sales contracts of any monetary value—retain for 50 years after final payment/closure.

System manager and address(es):

Chief, Sales Office, Disposition Management, DRMS-BBS (DAISY Local Sales), Defense Reutilization and Marketing Service, 74 Washington Avenue North, Battle Creek, Michigan 49037-3092.

DNSP Data Owner, Property Disposal Specialist (DNSP), Defense Reutilization and Marketing Service, DRMS-BA, 74 Washington Avenue North, Battle Creek, Michigan 49037-3092.

RMP Program Manager, DLIS-XP, 74 Washington Avenue North, Battle Creek, Michigan 49037-3092.

Notification procedures:

Individuals seeking to determine whether this system of records contains information about themselves should address written inquiries to the HQ DLA Privacy Act Office, Headquarters, Defense Logistics Agency, ATTN: HQ DLA-GC (FOIA/Privacy), 8725 John J. Kingman Road, STOP 1644, Fort Belvior, VA 22060-6221.

Request should contain the individual's name, business address and telephone number, and Bidder Identification Number.

Record access procedures:

Individuals seeking access to records about themselves contained in this system of records should address written inquiries to the HQ DLA Privacy Act Office, Headquarters, Defense Logistics Agency, ATTN: HQ DLA-GC (FOIA/Privacy), 8725 John J. Kingman Road, STOP 1644, Fort Belvior, VA 22060-6221.

Request should contain the individual's name, business address and telephone number, and Bidder Identification Number.

Contesting record procedures:

The DLA rules for contesting contents and appealing initial agency determinations are contained in 32 CFR part 323; or may be obtained from the HQ DLA Privacy Act Office, Headquarters, Defense Logistics Agency, ATTN: HQ DLA-GC (FOIA/Privacy), 8725 John J. Kingman Road, STOP 1644, Fort Belvior, VA 22060-6221.

Record source categories:

Information is provided by the subject individual. Bidder Identification Numbers are assigned sequentially by DAISY National Sales Program (DNSP). New bidders on Local Sales will receive a sequential number by adding them to the Bidder Master File on the Web, which feeds DNSP. RMP will use the same sequential system assigned Bidder Identification Numbers. Bidder status codes are entered by the DRMS staff and are based on frequency of bid responses and whether or not the bidder has been found ineligible to participate. Debarment data is provided by either the DRMS Office of Counsel or by General Services Administration.

Exemptions claimed for the system:

None.

[FR Doc. E7-17447 Filed 8-31-07; 8:45 am]

BILLING CODE 5001-06-P